DEPARTMENT OF JUSTICE

Notice of Proposed Consent Decree Modification Under the Clean Air Act

Notice is hereby given that on December 13, 2010, four proposed Consent Decree amendments in United States, et al. v. Motiva Enterprises LLC, et al., Civil Action No. H-01-0978, were lodged with the United States District Court for the Southern District of Texas.

The original settlement, entered on August 20, 2001, was for civil penalties and injunctive relief pursuant to Section 113(b) of the Clean Air Act (“CAA”), 42 U.S.C. 7413(b) covering nine petroleum refineries located in California, Delaware, Louisiana, Texas and Washington. These refineries were owned and operated by Motiva Enterprises LLC (“Motiva”), Equilon Enterprises LLC (“Equilon”) and Deer Park Refining Limited Partnership (“Deer Park”), which were subsidiaries or joint ventures of Shell Oil Company (“Shell”). The 2001 settlement was therefore embodied in four interlocking Consent Decrees covering each of the Shell companies that owned and operated the nine refineries. The four Consent Decree amendments lodged on December 13, 2010, would each make certain technical and administrative revisions, would reflect a transfer in ownership of one of the facilities covered by the settlement, and would make certain other minor modifications to each of the four interlocking Consent Decrees.

The Department of Justice will receive comments relating to the proposed Consent Decree amendments for a period of thirty (30) days from the date of this publication. The proposed amendments may be examined at the Office of the United States Attorney, Southern District of Texas, U.S. Courthouse, 515 Rusk, Houston, Texas 77002, and at EPA Region 6, 1445 Ross Avenue, Dallas, Texas 75202. Comments should be addressed to the Assistant Attorney General, Environment and Natural Resources Division, and either e-mailed to pubcomment-ees.enrd@usdoj.gov or mailed to P.O. Box 7611, U.S. Department of Justice, Washington, DC 20044-7611, and should refer to the matter as United States, et al. v. Motiva Enterprises LLC, et al., DOJ Ref. No. 90-5-2-1-07209.

During the public comment period, the proposed amendments may also be examined on the following Department of Justice Web site: http://www.usdoj.gov/enrd/Consent_Decrees.html. Copies of the proposed amendments may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting from the Consent Decree Library a copy of the consent decree amendments for United States et al. v. Motiva Enterprises LLC, et al., Civil Action No. H-01-0978 (S.D. Tex.), please enclose a check in the amount of $17.25 (25 cents per page reproduction cost) payable to the U.S. Treasury.

Maureen Katz,
Assistant Chief, Environmental Enforcement Section, Environment and Natural Resources Division.

[FR Doc. 2010-31727 Filed 12-16-10; 8:45 am]

BILLING CODE 4410-15-P